DEPARTMENT OF COMMERCE

National Oceanic and Atmospheric Administration

RIN 0648-XR041

Endangered and Threatened Species; Take of Anadromous Fish

AGENCY: National Marine Fisheries Service (NMFS), National Oceanic and Atmospheric Administration (NOAA), Department of Commerce.

ACTION: Notice; receipt of one incidental take permit application; availability of a draft environmental assessment; request for comments.

SUMMARY: Notice is hereby given that NMFS has received one incidental take permit application for the Calaveras River Habitat Conservation Plan (HCP) pursuant to the Endangered Species Act (ESA) of 1973, as amended. NMFS has also prepared a draft environmental assessment (EA) under the National Environmental Policy Act (NEPA) describing the potential effects of Stockton East Water District's (District) proposed Calaveras River HCP. The Calaveras River HCP was prepared and submitted by the District and describes their ongoing operations and monitoring activities in the Calaveras River. NMFS is furnishing this notice in order to allow other agencies and the public an opportunity to review and comment on the Calaveras River HCP and EA. All comments and other information received will become part of the public record and will be available for review.

DATES: Comments or requests for a public hearing on the applications must be received at the appropriate address or fax number (see ADDRESSES) no later than 5 p.m. Pacific standard time on November 14, 2019.

ADDRESSES: Written comments on the submitted permit application and associated HCP and/or the draft EA should be addressed to the NMFS California Central Valley Office, Attn: Calaveras River Habitat Conservation Plan, 650 Capitol Mall, Suite 5-100, Sacramento, CA 95814. Comments may also be submitted via fax to 916-930-3629 or by email to Calaveras.HCP@noaa.gov. Include in the subject line of the email comment the following identifier: Comments on Calaveras River Habitat Conservation Plan. Please specify whether the comments provided are associated with the HCP or the draft EA. When commenting, please refer to the specific page number and line number of the subject of your comment. The documents are available on the internet at https://www.fisheries.noaa.gov/action/calaveras-river-habitat-conservation-plan-and-environmental-assessment.

FOR FURTHER INFORMATION CONTACT: Monica Gutierrez, Sacramento, CA, at phone number: (916) 930-3657, via fax: (916) 930-3629, or via email: Monica.Gutierrez@noaa.gov.

SUPPLEMENTARY INFORMATION:

ESA-Listed Species Covered in This Notice

Chinook salmon (Oncorhynchus tshawytscha): Winter-run Chinook salmon, spring-run Chinook salmon, and fall/late fall-run Chinook salmon.

California Central Valley (CCV) steelhead (O. mykiss).

Background

The District is seeking coverage under section 10(a)(1)(B) of the ESA for their ongoing operations and monitoring program in the lower Calaveras River in California's Central Valley. The Calaveras River, a tributary to the San Joaquin River, serves as an important source of water for fish, agriculture, and municipal uses in Calaveras and San Joaquin counties. The District manages the water resources within the Calaveras River during non-flood control periods for their respective constituents. The Calaveras River provides valuable habitat for CCV steelhead and Chinook salmon. The District's operations may result in impacts to listed species and their habitat within the Calaveras River. Therefore, the District is committed to working collaboratively with NMFS to minimize these impacts through implementation of the HCP upon issuance of the Section 10(a)(1)(B) Permit.

Authority

Section 9 of the ESA and Federal regulations prohibit the `taking' of a species listed as endangered or threatened. The ESA defines “take” to mean harass, harm, pursue, hunt, shoot, wound, kill, trap, capture, or collect, or to attempt to engage in any such conduct. NMFS may issue permits, under limited circumstances to take listed species incidental to, and not the purpose of, otherwise lawful activities. Section 10(a)(1)(B) of the ESA provides for authorizing incidental take of listed species. NMFS regulations governing permits for threatened and endangered species are promulgated at 50 CFR 222.307.

NEPA requires Federal agencies to conduct an environmental analysis of their proposed actions to determine if the actions may affect the human environment. Therefore, NMFS is seeking public input on the scope of the required NEPA analysis, including the range of reasonable alternatives and associated impacts of any alternatives.

Angela Somma,
Chief, Endangered Species Conservation Division, Office of Protected Resources, National Marine Fisheries Service.

[FR Doc. 2019-21089 Filed 9-27-19; 8:45 am]

BILLING CODE 3510-22-P